DEPARTMENT OF HEALTH AND HUMAN SERVICES

National Institutes of Health

Center for Scientific Review; Amended Notice of Meeting

Notice is hereby given of a change in the meeting of the Vascular Cell and Molecular Biology Study Section, October 17, 2013, 08:00 a.m. to October 18, 2013, 12:00 p.m., Doubletree Hotel Washington, 1515 Rhode Island Ave. NW., Washington, DC 20005 which was published in the Federal Register on September 23, 2013, 78 FR184 Pgs. 58323-58324.

The meeting will be held on December 3, 2013, at 7:30 a.m. and will end at 7:30 p.m. The meeting location remains the same. The meeting is closed to the public.

Dated: October 23, 2013.
David Clary,
Program Analyst, Office of Federal Advisory Committee Policy.

[FR Doc. 2013-25475 Filed 10-28-13; 8:45 am]

BILLING CODE 4140-01-P